ENVIRONMENTAL PROTECTION AGENCY

[EPA-HQ-OW-2014-0359; FRL-9914-82-OW]

Proposed Information Collection Request; Comment Request; Underground Injection Control (UIC) Program

AGENCY: Environmental Protection Agency.

ACTION: Notice.

SUMMARY: The Environmental Protection Agency is planning to submit an information collection request (ICR), “Underground Injection Control Program” (EPA ICR No. 0370.25, OMB Control No. 2040-0042) to the Office of Management and Budget (OMB) for review and approval in accordance with the Paperwork Reduction Act (44 U.S.C. 3501 et seq.). Before doing so, EPA is soliciting public comments on specific aspects of the proposed information collection as described below. This is a proposed extension of the ICR, which is currently approved through November 30, 2014. An Agency may not conduct or sponsor and a person is not required to respond to a collection of information unless it displays a currently valid OMB control number.

DATES: Comments must be submitted on or before October 7, 2014.

ADDRESSES: Submit your comments, referencing Docket ID No. EPA-HQ-OW-2014-0359 online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Robert E. Smith, Office of Ground Water and Drinking Water/Drinking Water Protection Division, 4606M, Environmental Protection Agency, 1200 Pennsylvania Ave. NW., Washington, DC 20460; telephone number: 202-564-3895; fax number: 202-564-3756; email address: smith.robert-eu@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Underground Injection Control (UIC) program under The Safe Drinking Water Act established a Federal and State regulatory system to protect underground sources of drinking water (USDWs) from contamination by injected fluids. Injected fluids include trillions of gallons of various types of fluids each year such as hazardous waste; oil field brines or produced water; mineral processing fluids; various types of industrial fluids; automotive, sanitary and other wastes; and carbon dioxide injected for geological sequestration. Owners or operators of underground injection wells must obtain permits, conduct environmental monitoring, maintain records and report results to the EPA or the State UIC primacy (primary enforcement) agency. States must report to EPA on permittee compliance and related information. The mandatory information is reported using standardized forms and annual reports; applicable regulations are codified in the Code of Federal Regulations (CFR) at 40 CFR Parts 144 through 148. The data are used by UIC authorities to ensure the protection of underground sources of drinking water.

Form Numbers: The forms are 7520-1, 7520-2A, 7520-2B, 7520-3, 7520-4, 7520-6, 7520-7, 7520-8, 7520-9, 7520-10, 7520-11, 7520-12, 7520-14, 7520-16, and 7520-17.

Respondents/affected entities: Owners or operators of underground injection wells and State UIC primacy agencies.

Respondent's obligation to respond: Mandatory (40 CFR Parts 144 through 148).

Estimated number of respondents: 53,772 (total).

Frequency of response: Annual, semi-annual and quarterly.

Total estimated burden: 1,304,027 hours (per year). Burden is defined at 5 CFR 1320.03(b).

Total estimated cost: $194,842,061 (per year), includes $140,457,959 annualized capital or operation and maintenance costs.

Changes in Estimates: Possible increases in the total estimated respondent burden will be evaluated along with any public comments received on this notice.

Dated: July 30, 2014.
Peter Grevatt,
Director, Office of Ground Water and Drinking Water.

[FR Doc. 2014-18823 Filed 8-7-14; 8:45 am]

BILLING CODE 6560-50-P